SUSQUEHANNA RIVER BASIN COMMISSION

Notice of Public Comment and Public Hearing

AGENCY: Susquehanna River Basin Commission.

ACTION: Notice of public comment and public hearing.

SUMMARY: The Susquehanna River Basin Commission (SRBC) will hold a public hearing on April 23, 2008 in the Susquehanna Room, Pennsylvania Fish & Boat Commission, 1601 Elmerton Ave., Harrisburg, Pennsylvania 17110, beginning at 10 a.m. The purpose of the hearing is to receive comments on a proposed increase in the SRBC Consumptive Use Mitigation Fee and is being held in conjunction with a 60-day public comment period established for the proposal. Details concerning the subject matter of the public hearing are contained in the Supplementary Information section of this notice.

DATES: April 23, 2008, beginning at 10 a.m.

ADDRESSES: Pennsylvania Fish and Boat Commission, 1601 Elmerton Ave., Harrrisburg, Pennsylvania 17110.

FOR FURTHER INFORMATION CONTACT: More information on the proposed increase can be obtained from SRBC's Web site at http://www.srbc.net/programs/projreview.htm or by calling (717) 238-0423.

SUPPLEMENTARY INFORMATION: As noted in the summary, the purpose of the 60-day comment period and the hearing is to receive comments on a proposed increase in the SRBC Consumptive Use Mitigation Fee. The fee, which is paid by the sponsors of consumptive use projects as an optional method of compliance with the SRBC's consumptive use mitigation requirements, has not been adjusted since January 1, 1993. Under the proposal, the fee would increase from its current level of 14 cents per 1,000 gallons of water consumed to 28 cents per 1,000 gallons of water consumed, to take effect on January 1, 2009, with annual inflationary adjustments in subsequent years.

Opportunity to Appear and Comment

Interested parties may appear at the above hearing to offer written or oral comments to the Commission. The chair of the Commission reserves the right to limit oral statements in the interest of time and to otherwise control the course of the hearing and business meeting. Anyone planning to comment at the public hearing should contact Richard A. Cairo, General Counsel, SRBC, 1721 N. Front Street, Harrisburg, PA 17102-2391; (717) 238-0423. Ext. 306. Public comments will also be accepted during the 60-day comment period that begins April 1, 2008 and concludes May 31, 2008, and can be sent to Mr. Cairo by mail, by e-mail at SRBCfeecomments@srbc.net, and by fax at (717) 238-2436.

Authority: P.L. 91-575, 84 Stat. 1509 et seq., 18 CFR Parts 806, 807, and 808.

Dated: March 24, 2008.
Thomas W. Beauduy,
Deputy Director.

[FR Doc. E8-6625 Filed 3-31-08; 8:45 am]

BILLING CODE 7040-01-P